DEPARTMENT OF ENERGY

Federal Energy Regulatory Commission

Combined Notice of Filings #2

Take notice that the Commission received the following electric rate filings:

Docket Numbers: ER21-755-001.

Applicants: Southwest Power Pool, Inc.

Description: Southwest Power Pool, Inc. submits tariff filing per 35.17(b): 1875R4 Kansas Electric Power Cooperative, Inc. NITSA and NOA to be effective 12/1/2020.

Filed Date: 02/25/2021.

Accession Number: 20210225-5121.

Comment Date: 5 p.m. ET 3/18/21.

Docket Numbers: ER21-1204-000.

Applicants: Midcontinent Independent System Operator, Inc., ITC Midwest LLC.

Description: § 205(d) Rate Filing: 2021-02-25_SA 3639 ITC Midwest-Elk Creek Solar E&P (J1164) to be effective 2/22/2021.

Filed Date: 2/25/21.

Accession Number: 20210225-5107.

Comments Due: 5 p.m. ET 3/18/21.

Docket Numbers: ER21-1205-000.

Applicants: Basin Electric Power Cooperative.

Description: Basin Electric Power Cooperative submits tariff filing per 35.13(a)(2)(iii: Basin Electric Filing of Balancing Authority Services Agreement with WAPA-RMR to be effective 1/7/2021.

Filed Date: 02/25/2021.

Accession Number: 20210225-5115.

Comment Date: 5 p.m. ET 3/18/21.

Docket Numbers: ER21-1207-000.

Applicants: PJM Interconnection, L.L.C.

Description: PJM Interconnection, L.L.C. submits tariff filing per 35.13(a)(2)(iii: Rev. to PJM OATT and CTOA RE: update AEP affiliate company names (OATT) to be effective 4/27/2021.

Filed Date: 02/25/2021.

Accession Number: 20210225-5127.

Comment Date: 5 p.m. ET 3/18/21.

Docket Numbers: ER21-1208-000.

Applicants: PJM Interconnection, L.L.C.

Description: PJM Interconnection, L.L.C. submits tariff filing per 35.13(a)(2)(iii: Rev. to PJM OATT and CTOA RE: update AEP affiliate company names (CTOA) to be effective 4/27/2021.

Filed Date: 02/25/2021.

Accession Number: 20210225-5128.

Comment Date: 5 p.m. ET 3/18/21.

Docket Numbers: ER21-1209-000.

Applicants: Mid-Atlantic Interstate Transmission, LLC, PJM Interconnection, L.L.C.

Description: Mid-Atlantic Interstate Transmission, LLC submits tariff filing per 35.13(a)(2)(iii: MAIT submits Seven ECSAs, Nos. 5387, 5774, 5917, 5918, 5919, 5920 and 5921 to be effective 4/27/2021.

Filed Date: 02/25/2021.

Accession Number: 20210225-5143.

Comment Date: 5 p.m. ET 3/18/21.

Docket Numbers: ER21-1210-000.

Applicants: PJM Interconnection, L.L.C.

Description: PJM Interconnection, L.L.C. submits tariff filing per 35.15: Notice of Cancellation of WMPA, SA No. 5153; Queue No. AD1-157 re: Withdrawal to be effective 3/27/2021.

Filed Date: 02/25/2021.

Accession Number: 20210225-5157.

Comment Date: 5 p.m. ET 3/18/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 25, 2021.
Nathaniel J. Davis, Sr.,
Deputy Secretary.

[FR Doc. 2021-04382 Filed 3-2-21; 8:45 am]

BILLING CODE 6717-01-P